DEPARTMENT OF HOMELAND SECURITY

Coast Guard

33 CFR Part 117

[CGD05-04-040]

RIN 1625-AA09

Drawbridge Operation Regulations; Delaware River, NJ

AGENCY: Coast Guard, DHS.

ACTION: Notice of temporary deviation from regulations.

SUMMARY: The Commander, Fifth Coast Guard District, has approved a temporary deviation from the regulations governing the operation of the Tacony-Palmyra Bridge across the Delaware River mile 107.2, in Burlington County, New Jersey. This deviation allows the drawbridge to remain in the closed-to-navigation position from 9 p.m. on March 29, 2004, to 9 p.m. on April 5, 2004. This closure is necessary to facilitate structural repairs.

DATES: This deviation is effective from 9 p.m. on March 29, 2004, through 9 p.m. on April 5, 2004.

FOR FURTHER INFORMATION CONTACT: Bill Brazier, Bridge Management Specialist, Fifth Coast Guard District, at (757) 398-6422.

SUPPLEMENTARY INFORMATION: The Tacony-Palmyra Bridge, a double-leaf drawbridge, is owned and operated by the Burlington County Bridge Commission (Burlington County). Cornell & Company, Inc., on behalf of Burlington County, has requested a temporary deviation from the operating regulation to facilitate needed structural repairs to the bridge.

The work involves the machining and repairing of the track girders that support the drawbridge. There are four girders to be repaired and all four will be worked on simultaneously. To facilitate the repairs, the work requires completely immobilizing the draw spans in the closed-to-navigation position from 9 p.m. on March 29, 2004, through 9 p.m. on April 5, 2004. The Coast Guard has informed the known users of the waterway of the closure periods for the bridge caused by the temporary deviation.

The District Commander has granted temporary deviation from the operating requirements listed in 33 CFR 117.5 for the purpose of repair completion of the drawbridge. This deviation allows the Tacony-Palmyra Bridge, across the Delaware River mile 107.2, in Burlington County, NJ, to remain closed to navigation from 9 p.m. March 29, 2004, to 9 p.m. on April 5, 2004.

Dated: March 5, 2004.
Waverly W. Gregory, Jr.,
Chief, Bridge Branch, Fifth Coast Guard District.

[FR Doc. 04-5795 Filed 3-12-04; 8:45 am]

BILLING CODE 4910-15-P